DEPARTMENT OF COMMERCE

International Trade Administration

[A-570-176, C-570-177]

Certain Low-Speed Personal Transportation Vehicles From the People's Republic of China: Amended Final Antidumping Duty Determination and Antidumping Duty Order; Amended Final Determination of Countervailing Duty Investigation and Countervailing Duty Order

AGENCY: Enforcement and Compliance, International Trade Administration, Department of Commerce.

SUMMARY: Based on affirmative final determinations by the U.S. Department of Commerce (Commerce) and the U.S. International Trade Commission (ITC), Commerce is issuing antidumping duty (AD) and countervailing duty (CVD) orders on certain low-speed personal transportation vehicles (LSPTVs) from the People's Republic of China (China). In addition, Commerce is amending the final less than fair value (LTFV) determination and the final CVD determination for LSPTVs from China to correct ministerial errors.

DATES: Applicable August 12, 2025.

FOR FURTHER INFORMATION CONTACT: Jerry Xiao or Gorden Struck (AD), Office II at (202) 482-2273 or (202) 482-8151, respectively; or Dan Alexander (CVD), Office VII, at (202) 482-4313; AD/CVD Operations, Enforcement and Compliance, International Trade Administration, U.S. Department of Commerce, 1401 Constitution Avenue NW, Washington, DC 20230.

SUPPLEMENTARY INFORMATION:

Background

In accordance with sections 705(d), 735(d), and 777(i)(1) of the Tariff Act of 1930, as amended (the Act), and 19 CFR 351.210(b), on June 23, 2025, Commerce published its affirmative final determination of sales at LTFV of LSPTVs from China and its affirmative final determination that countervailable subsidies are being provided to producers and exporters of LSPTVs from China.¹

¹ See Certain Low Speed Personal Transportation Vehicles from the People's Republic of China: Final Affirmative Determination of Sales at Less Than Fair Value and Final Affirmative Determination of Critical Circumstances, in Part, 90 FR 26530 (June 23, 2025) (LTFV Final Determination), and accompanying Issues and Decision Memorandum (IDM); see also Certain Low-Speed Personal Transportation Vehicles from the People's Republic of China: Final Affirmative Countervailing Duty Determination and Final Affirmative Determination of Critical Circumstances, 90 FR 26536 (June 23, 2025) (CVD Final Determination).

On June 30, 2025, the American Personal Transportation Vehicle Manufacturers Coalition (petitioner) and Guangdong Lvtong New Energy Electric Vehicle Technology Co., Ltd. (Guangdong Lvtong) alleged that Commerce made ministerial errors in the LTFV Final Determination ² and the CVD Final Determination.³ No party submitted rebuttal comments to the ministerial error allegations. Sections 705(e) and 735(e) of the Act and 19 CFR 351.224(f) define ministerial errors as errors in addition, subtraction, or other arithmetic function, clerical errors resulting from inaccurate copying, duplication, or the like, and any other type of unintentional error which Commerce considers ministerial. We reviewed the allegations and determined that we made ministerial errors in the LTFV Final Determination and the CVD Final Determination. See “Amendment to the Final Determination of Sales at Less Than Fair Value” and “Amendment to the Final Countervailing Duty Determination” sections below for further discussions.

² See Petitioner's Letter, “Petitioner's Ministerial Error Allegation,” dated June 30, 2025 (Petitioner's Ministerial Error Allegation).

³ See Guangdong Lvtong's Letter, “Lvtong Ministerial Error Allegation,” dated June 30, 2025 (Guangdong Lvtong's Ministerial Error Allegation).

On August 4, 2025, the ITC notified Commerce of its final affirmative determinations that an industry in the United States is materially injured within the meanings of sections 705(b)(1)(A)(i) and 735(b)(1)(A)(i) of the Act by reason of subsidized imports of LSPTVs from China and by reason of imports of LSPTVs that are sold in the United States at less than fair value.⁴

⁴ See ITC's Letter, “Chair Determinations Letter to Commerce,” dated August 4, 2025 (ITC Notification Letter).

Scope of the Orders

The product covered by these orders is LSPTVs from China. For a complete description of the scope of these orders, see Appendix I to this notice.

Amendment to the Final Determination of Sales at Less Than Fair Value

On June 30, 2025, Commerce received timely ministerial error allegations from the petitioner alleging that Commerce made three ministerial errors in the LTFV Final Determination with respect to the estimated weighted-average dumping margin for the mandatory respondents Guangdong Lvtong New Energy Electric Vehicle Technology Co., Ltd. (Guangdong Lvtong) and Xiamen Dalle New Energy Automobile Co., Ltd. (Xiamen Dalle) (collectively, the respondents).⁵ Commerce reviewed the record, and we determine that two of the three allegations concerning Xiamen Dalle constitute ministerial errors within the meaning of section 735(e) of the Act and 19 CFR 351.224(f).⁶ Consistent with 19 CFR 351.224(e), Commerce is amending the LTFV Final Determination to reflect the correction of these two ministerial errors. Correction of these ministerial errors changes Xiamen Dalle's final estimated weighted-average dumping margin from 312.31 percent to 312.54 percent. As a result, we are also revising the estimated weighted-average dumping margin assigned to the separate rate companies from 291.04 percent to 292.03 percent.⁷ The amended estimated weighted-average dumping margins are listed in the “Amended Final Determination” section below.

⁵ See Petitioner's Ministerial Error Allegation.

⁶ See Memorandum, “Analysis of Ministerial Errors Allegations,” dated July 23, 2025 (Final Ministerial Error Memorandum).

⁷ See Memorandum, “Calculation of the Margin for Respondents Not Selected for Individual Examination for the Amended Final Determination,” dated July 23, 2025.

AD Order

On August 4, 2025, in accordance with 735(d) of the Act, the ITC notified Commerce of its final determination that an industry in the United States is materially injured within the meaning of section 735(b)(1)(A)(i) of the Act by reason of imports of LSPTVs that are sold in the United States at LTFV. Therefore, in accordance with sections 735(c)(2) and 736 of the Act, Commerce is issuing this AD order. Because the ITC determined that imports of LSPTVs from China are materially injuring a U.S. industry, unliquidated entries of such merchandise from China, entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the subject merchandise exceeds the export price (or constructed export price) of the subject merchandise, for all relevant entries of LSPTVs from China. Antidumping duties will be assessed on unliquidated entries of LSPTVs from China entered, or withdrawn from warehouse, for consumption on or after January 30, 2025, the date of publication of the LTFV Preliminary Determination,⁸ but will not include entries occurring after the expiration of the provisional measures period and before publication of the ITC's final injury determination, as further described in the “Provisional Measures—AD ” section of this notice.

⁸ See Certain Low Speed Personal Transportation Vehicles from the People's Republic of China: Preliminary Affirmative Determination of Sale at Less-Than-Fair-Value Investigation, Preliminary Affirmative Determination of Critical Circumstances, Postponement of Final Determination and Extension of Provisional Measures, 90 FR 8517 (January 30, 2025) (LTFV Preliminary Determination).

Furthermore, both Commerce and the ITC found that critical circumstances exist for LSTPVs from China produced and exported by Guangdong Lvtong, LSTPVs from China produced and exported by the non-examined separate rate companies (see Appendix II), and LSTPVs from China produced or exported by the China-wide entity; critical circumstances were not found for LSPTVs from China produced and exported by Xiamen Dalle. Accordingly, Commerce will direct CBP to assess, upon further instruction by Commerce, antidumping duties equal to the amount by which the normal value of the subject merchandise exceeds the export price (or constructed export price) of the subject merchandise, for all entries of LSPTVs from China, except those produced and exported by Xiamen Dalle, entered, or withdrawn from warehouse, for consumption on or after November 1, 2024 through January 29, 2025 (i.e., 90 days prior to the date of publication of the LTFV Preliminary Determination).

Suspension of Liquidation and Cash Deposit Requirements—AD

In accordance with section 736 of the Act, Commerce intends to instruct CBP to continue the suspension of liquidation of entries of LSPTVs from China, effective on the date of publication of the ITC's final affirmative injury determination in the Federal Register. Commerce also intends to instruct CBP to require cash deposits equal to the estimated weighted-average dumping margins, as revised in this amended final determination and adjusted for subsidy offsets, as indicated in the table below. The rate for the China-wide entity applies to all producer and exporter combinations not specifically listed below in the Amended Final Determination.

These instructions suspending liquidation and cash deposit requirements will remain in effect until further notice.

In addition, under section 735(b)(4)(A) of the Act, the ITC found that critical circumstances exist with respect to imports subject to Commerce's affirmative critical circumstances determination under section 735(a)(3) of the Act. Therefore, we intend to instruct CBP to suspend liquidation of entries of subject merchandise entered for consumption on or after November 1, 2024 through January 29, 2025, except for subject merchandise produced and exported by Xiamen Dalle. Further, CBP will collect the appropriate cash deposit for estimated antidumping duties for such entries.⁹

⁹ See section 735(c)(4) of the Act; see also Statement of Administrative Action Accompanying the Uruguay Round Agreements Act, H.R. Doc. 103-316, Vol. 1 (1994) (SAA), at 876 (“If both agencies make affirmative critical circumstances determinations in their final investigations, retroactive duties will be applied for a period ninety days prior to suspension of liquidation.”); see also LTFV Final Determination.

Estimated Weighted-Average Dumping Margins

The amended estimated weighted-average dumping margins are as follows:

Exporter | Producer | Weighted- average dumping margin (percent) | Cash deposit rate (adjusted for subsidy offsets) (percent)
Guangdong Lvtong New Energy Electric Vehicle Technology Co., Ltd | Guangdong Lvtong New Energy Electric Vehicle Technology Co., Ltd | 119.39 | 119.33
Xiamen Dalle New Energy Automobile Co., Ltd | Xiamen Dalle New Energy Automobile Co., Ltd | 312.54 | 312.54
Non-Examined Separate Rate Producer/Exporter Combinations (see Appendix II) |  | 292.03 | 292.00
China-Wide Entity |  | * 478.09 | 478.09
* This rate is based on facts available with adverse inferences.

Provisional Measures—AD

Section 733(d) of the Act states that suspension of liquidation pursuant to an affirmative preliminary determination may not remain in effect for more than four months, except where exporters representing a significant proportion of exports of the subject merchandise request that Commerce extend the four-month period to no more than six months. Commerce published the LTFV Preliminary Determination on January 30, 2025. At the request of the exporter that accounted for a significant proportion of export of LSPTVs from China, Commerce extended the four-month period to no more than six months.¹⁰ Therefore, the six-month provisional measures period beginning on the date of the publication of the LTFV Preliminary Determination ended on July 28, 2025.

¹⁰ See LTFV Preliminary Determination, 90 FR at 8519.

In accordance with section 733(d) of the Act and its practice,¹¹ Commerce will instruct CBP to terminate the suspension of liquidation and to liquidate, without regard to antidumping duties, unliquidated entries of LSPTVs from China entered, or withdrawn from warehouse, for consumption on or after July 29, 2025, the first day provisional measures were no longer in effect, until and through the day preceding the date of publication of the ITC's final injury determination in the Federal Register.

¹¹ See, e.g., Certain Corrosion-Resistant Steel Products from India, the People's Republic of China, the Republic of Korea and Taiwan: Amended Final Affirmative Antidumping Determination for India and Taiwan, and Antidumping Duty Orders, 81 FR 48390, 48392 (July 25, 2016).

Suspension of liquidation and the collection of cash deposits will resume on the date of publication of the ITC's final determination in the Federal Register.

Amendment to the Final Countervailing Duty Determination

On June 30, 2025, Commerce received ministerial error allegations from the petitioner alleging that Commerce made a ministerial error in the CVD Final Determination with respect to the adverse facts available (AFA) rate calculation for the non-respondent companies.¹² We reviewed the record, and agreed that that the error alleged by the petitioner constitutes a ministerial error within the meaning of section 735(e) of the Act and 19 CFR 351.224(f).¹³ Specifically, Commerce found that it made an inadvertent error by not applying as AFA to the non-responsive companies the updated rate of 25.50 percent that we calculated in the Amended Preliminary Determination for the lithium ion batteries for less than adequate remuneration program.¹⁴ Based on the correction, the AFA rate for the non-respondent companies is listed in the “Estimated Countervailable Subsidy Rates” section below. For further discussion, see Ministerial Analysis Memorandum.

¹² See Petitioner's Ministerial Error Allegation; see also Guangdong Lvtong's Ministerial Error Allegation.

¹³ See Memorandum, “Analysis of Ministerial Error Allegations,” dated July 17, 2025 (Ministerial Analysis Memorandum).

¹⁴ See Certain Low Speed Personal Transportation Vehicles from the People's Republic of China: Amended Preliminary Determination of Countervailing Duty Investigation, 90 FR 9892 (February 19, 2025).

On June 30, 2025 Guangdong Lvtong also submitted a timely ministerial error allegation regarding Commerce's response to its assertion that the rate for the Chinese Government's Purchase of LSPTVs for More than Adequate Remuneration (MTAR) Program should be based on a per-weight, rather than a per-unit basis,¹⁵ which we did not directly address in the Final Determination.¹⁶ Guangdong Lvtong contends that we committed a ministerial error by not directly responding to its argument.¹⁷ A ministerial error is defined in 19 CFR 351.224(f) as “an error in addition, subtraction, or other arithmetic function, clerical error resulting from inaccurate copying, duplication, or the like, and any other similar type of unintentional error which the Secretary considers ministerial.” ¹⁸ We disagree with Guangdong Lvtong that this constitutes a ministerial error, as this assertion by Guangdong Lvtong does not fall within the definition as set forth in 19 CFR 351.224(f). For further discussion, see Ministerial Analysis Memorandum.

¹⁵ See Guangdong Lvtong's Ministerial Error Allegation at 1-2.

¹⁶ Id.

¹⁷ Id. at 2.

¹⁸ See section 705(e) of the Act.

Countervailing Duty Order

As stated above, based on the affirmative determination by the ITC that an industry in the United States is materially injured within the meaning of section 705(b)(1)(A)(i) of the Act by reason of subsidized imports of LSPTVs from China, in accordance with sections 705(c)(2) and 706 of the Act, Commerce is issuing this CVD order. Because the ITC determined that imports of LSPTV's from China are materially injuring U.S. industry, unliquidated entries of such merchandise entered or withdrawn from warehouse for consumption, are subject to the assessment of countervailing duties.

Therefore, in accordance with section 706(a) of the Act, Commerce will direct CBP to assess, upon further instruction by Commerce, countervailing duties on all relevant entries of LSPTVs from China entered, or withdrawn from warehouse, for consumption, on or after September 7, 2024, which is 90 days prior to the date of publication of the CVD Preliminary Determination.¹⁹ Countervailing duties will not be assessed on entries occurring after the expiration of the provisional measures period and before the publication of the ITC's final affirmative injury determination, as further described in the “Provisional Measures” section of this notice.

¹⁹ See Certain Low Speed Personal Transportation Vehicles from the People's Republic of China: Preliminary Affirmative Countervailing Duty Determination, Preliminary Affirmative Determination of Critical Circumstances, in Part, and Alignment of Final Determination With Final Antidumping Duty Determination, 89 FR 96942 (December 6, 2024) (CVD Preliminary Determination).

Furthermore, the ITC found that critical circumstances exist with respect to all imports subject to Commerce's affirmative critical circumstances finding within the meaning of section 705(b)(4)(A) of the Act. As a result of Commerce's affirmative critical circumstances determination under section 705(a)(2) of the Act, and the ITC's affirmative critical circumstances determination under section 705(b)(4)(A) of the Act, retroactive duties will be applied to the relevant imports for a period of 90 days prior to the suspension of liquidation (i.e. 90 days prior to the publication of the Preliminary Determination).²⁰

²⁰ See section 705(c)(4) of the Act; see also SAA at 876 (“If both agencies make affirmative critical circumstances determinations in their final investigations, retroactive duties will be applied for a period ninety days prior to suspension of liquidation.”).

Suspension of Liquidation and Cash Deposits—CVD

In accordance with section 706 of the Act, Commerce intends to instruct CBP to reinstitute the suspension of liquidation of LSPTVs from China, effective on the on the date of publication of the ITC's final affirmative injury determination in the Federal Register, and to assess, upon further instruction by Commerce, pursuant to section 706(a)(1) of the Act, countervailing duties on each entry of subject merchandise in an amount based on the net countervailable subsidy rates below. These instructions suspending liquidation will remain in effect until further notice.

Commerce also intends, pursuant to section 706(a)(1) of the Act, to instruct CBP to require cash deposits equal to the amounts as indicated below. Accordingly, effective on the date of publication of the ITC's final affirmative injury determination in the Federal Register, CBP will require, at the same time as importers would normally deposit estimated customs duties on the subject merchandise, a cash deposit for each entry of subject merchandise equal to the subsidy rates listed below.²¹

²¹ See section 706(a)(3) of the Act.

In addition, under section 705(a)(2)(A) of the Act, the ITC found that critical circumstances exist with respect to imports subject to Commerce's affirmative critical circumstances determination under section 735(a)(3) of the Act. Therefore, we intend to instruct CBP to suspend liquidation of entries of subject merchandise entered for consumption on or after September 7, 2024, through December 5, 2024. Further, CBP will collect the appropriate cash deposit for estimated antidumping duties for such entries.²²

²² See section 735(c)(4) of the Act; see also Statement of Administrative Action Accompanying the Uruguay Round Agreements Act, H.R. Doc. 103-316, Vol. 1 (1994) (SAA), at 876 (“If both agencies make affirmative critical circumstances determinations in their final investigations, retroactive duties will be applied for a period ninety days prior to suspension of liquidation.”); See also CVD Final Determination.

Estimated Countervailable Subsidy Rates

The estimated CVD subsidy rates are as follows:

Company | Subsidy rate (percent ad valorem)
Guangdong Lvtong New Energy Electric Vehicle Technology Co., Ltd. | 31.45
Hebei Machinery Import and Export Co., LTD. | * 691.58
Shandong Odes Industry Co. Ltd. | * 691.58
Xiamen Dalle New Energy Automobile Co., Ltd. | 44.38
All Others | 41.14
* Rate based on facts available with adverse inferences.

Provisional Measures—CVD

Section 703(d) of the Act states that the suspension of liquidation pursuant to an affirmative preliminary determination may not remain in effect for more than four months. Commerce published the CVD Preliminary Determination on December 6, 2024.²³ As such, the four-month period beginning on the date of the publication of the CVD Preliminary Determination ended on April 4, 2025.

²³ See CVD Preliminary Determination.

Therefore, in accordance with section 703(d) of the Act, Commerce instructed CBP to discontinue the suspension of liquidation and to liquidate, without regard to countervailing duties, unliquidated entries of LSPTVs from China entered or withdrawn from warehouse for consumption, on or after April 5, 2025, the first day provisional measures were no longer in effect, until and through the day preceding the date of publication of the ITC final injury determination. Suspension of liquidation and the collection of cash deposits will resume on the date of publication of the ITC final injury determination in the Federal Register.

Establishment of the Annual Inquiry Service Lists

On September 20, 2021, Commerce published the Final Rule in the Federal Register.²⁴ On September 27, 2021, Commerce also published the Procedural Guidance in the Federal Register.²⁵ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.²⁶ In accordance with the Procedural Guidance, for orders published in the Federal Register after November 4, 2021, Commerce will create an annual inquiry service list segment in Commerce's online e-filing and document management system, Antidumping and Countervailing Duty Electronic Service System (ACCESS), available at https://access.trade.gov, within five business days of publication of the order. Each annual inquiry service list will be saved in ACCESS, under each case number, and under a specific segment type called “AISL Annual Inquiry Service List.” ²⁷

²⁴ See Regulations to Improve Administration and Enforcement of Antidumping and Countervailing Duty Laws, 86 FR 52300 (September 20, 2021) (Final Rule).

²⁵ See Scope Ruling Application; Annual Inquiry Service List; and Informational Sessions, 86 FR 53205 (September 27, 2021) (Procedural Guidance).

²⁶ Id.

²⁷ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,²⁸ the new annual inquiry service list will be in place until the following year, when the Opportunity Notice for the anniversary month of the order is published.

²⁸ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ²⁹ Accordingly, as stated above, the petitioner and the Government of China should submit their initial entries of appearance after publication of this notice in order to appear in the first annual inquiry service lists for those orders for which they qualify as an interested party. Pursuant to 19 CFR 351.225(n)(3), the petitioner and the Government of China will not need to resubmit their entries of appearance each year to continue to be included on the annual inquiry service list. However, the petitioner and the Government of China are responsible for making amendments to their entries of appearance during the annual update to the annual inquiry service list in accordance with the procedures described above.

²⁹ See Final Rule, 86 FR at 52335.

Notification to Interested Parties

This notice constitutes the AD and CVD orders with respect to LSPTVs from China, pursuant to sections 736(a) and 706(a) of the Act. Interested parties can find a list of AD and CVD orders currently in effect at https://enforcement.trade.gov/stats/iastats1.html.

These orders are issued and published in accordance with sections 736(a) and 706(a) of the Act, and 19 CFR 351.211(b).

Dated: August 6, 2025.
Abdelali Elouaradia,
Deputy Assistant Secretary for Enforcement and Compliance.

Appendix I

Scope of the Orders

The merchandise covered by these orders consists of certain low speed personal transportation vehicles (LSPTVs) and subassemblies thereof, whether finished or unfinished and whether assembled or unassembled, with or without tires, wheels, seats, steering columns and steering wheels, canopies, roofs, or batteries. LSPTVs meeting this description are generally open-air vehicles, i.e., may have a permanent roof, may have a permanent windshield, and may be covered with temporary sides, with a minimum of four wheels, a steering wheel, a traditional side-by-side or in-line row seating arrangement (i.e., non-straddle), foot operated accelerator and brake pedals, and a gross vehicle weight of no greater than 5,500 pounds. Vehicles with a roof and four sides with doors and windows permanently integrated into the chassis at the time of production (e.g., the sides are welded to the chassis and roof) are not subject to the order.

The main power source for subject LSPTVs is either an electric motor and battery (including but not limited to lithium-ion batteries, lithium phosphate batteries, lead acid batteries, and absorbed glass mat batteries) or a gas-powered internal combustion engine. Subject LSPTVs may be described as golf carts, golf cars, low speed vehicles, personal transportation vehicles, or light utility vehicles.

LSPTVs subject to these orders should have a maximum top nameplate speed of no greater than 25 miles per hour as required by federal, state, and local laws and regulations. Subject LSPTVs with a maximum top nameplate speed greater than 20 miles per hour normally must comply with the U.S. Department of Transportation's Federal Motor Vehicle Safety Standards for Low-Speed Vehicles set forth in 49 CFR 571.500. LSPTVs that otherwise meet the physical description of this scope but are not certified under 49 CFR 571.500 and are not certified under other sections of subpart B of the Federal Motor Vehicle Safety Standards (49 CFR part 571), are not excluded from the scope of these orders. LSPTVs that are certified under both 49 CFR 571.500 and other sections of subpart B of the Federal Motor Vehicle Safety Standards remain subject to the scope of these orders. Subject LSPTVs that have a maximum top nameplate speed of less than 25 miles per hour may be certified to the SAE International (SAE) standards SAE J2258 and SAE J2358. LSPTVs that have a maximum top nameplate speed of less than 20 miles per hour may also be certified to the Outdoor Power Equipment Institute (OPEI) standards OPEI Z130.1 and OPEI Z135. The SAE and OPEI standards provided above are for reference purposes only, and whether merchandise is certified to those standards is not dispositive of whether that merchandise is subject to these orders.

An unfinished and/or unassembled LSPTV subject to these orders covers at a minimum a subassembly, also known as a “rolling chassis,” which is typically comprised of, but not limited to, a frame or body with front and/or rear suspension components (such as arms, springs, axles, spindles, and shafts) installed and powertrain components (including either an electric motor or a gas-powered internal combustion engine) installed or ready for installation.

When imported together with a rolling chassis subject to these orders, other LSPTV components, such as batteries, bumpers, wheel and tire assemblies, cowlings, fenders, grills, kick plates, steering column and steering wheel assemblies, dash assembly, seat assemblies, pedal assemblies, brake assemblies, canopy or roof assemblies, temporary rain enclosures, windshields, mirrors, headlights, taillights, lighting systems, or storage—whether assembled or unassembled, whether as part of a kit or not, and whether or not accompanied by additional components—constitute part of an unfinished and/or unassembled LSPTV that is subject to these orders. The inclusion of other products, components, or assemblies not described here does not remove the product from the scope.

Subject LSPTVs and subassemblies are covered by the scope of these orders whether or not they are accompanied by other parts. These orders covers all LSPTVs and subassemblies meeting the physical description of the scope, regardless of overall length, width, or height. The following individual components of Chinese origin that are entered by themselves on separate bills of lading (i.e., not on the same bills of lading as Chinese-origin subject subassemblies/rolling chassis) are not subject to these orders when accompanied by the appropriate certification: seat assemblies, steering columns, suspension systems, plastic cowlings, and electric and gas-powered motors suitable for use in LSPTV. When entered with (i.e., on the same bill of lading as) a Chinese-origin LSPTV or subject rolling chassis, whether finished or unfinished and whether assembled or unassembled, or when entered without the appropriate certification, these components are subject merchandise.

LSPTVs and subassemblies subject to these orders include those that are produced in the subject country whether assembled with other components in the subject country or in a third country. Processing or completion of finished and unfinished LSPTVs and subassemblies either in the subject country or in a third country does not remove the product from the scope.

Specifically excluded from the scope of these orders are all-terrain vehicles (which typically have straddle seating and are steered by handlebars), multipurpose off-highway utility vehicles (which have a maximum top nameplate speed of greater than 25 miles per hour), and recreational off-highway vehicles (which have a maximum top nameplate speed of greater than 30 miles per hour). Also excluded from the scope are go-karts, electric scooters, golf trolleys, and mobility aids (which include power wheelchairs and scooters which are used for the express purpose of enabling mobility for a person).

The LSPTVs subject to the orders are typically classified in the Harmonized Tariff Schedule of the United States (HTSUS) at subheading 8703.10.5030. LSPTVs subject to the orders may also enter under HTSUS subheading 8703.10.5060 and 8703.90.0100. The LSPTV subassemblies that are subject to the orders typically enter under HTSUS subheadings 8706.00.1540 and 8707.10.0040. The HTSUS subheadings are provided for convenience and customs purposes only, and the written description of the merchandise subject to the orders is dispositive.

Appendix II

Companies Eligible for a Separate Rate

| Exporter | Producer
1. | Alwayz Electric Vehicle (Chuzhou) Co., Ltd | Alwayz Electric Vehicle (Chuzhou) Co., Ltd.
2. | Dongguan Excar Electric Vehicle Co., Ltd | Dongguan Excar Electric Vehicle Co., Ltd.
3. | GD Evtong New Tech Co., Ltd | Guangdong Yitong New Energy Technology Co., Ltd.
4. | Greenman Electric Vehicles Co., Ltd | Greenman Electric Vehicles Co., Ltd.
5. | Guangdong Marshell Electric Vehicle Co., Ltd | Guangdong Marshell Electric Vehicle Co., Ltd.
6. | Guangdong Yatian Industrial Co., Ltd | Guangdong Yatian Industrial Co., Ltd.
7. | Guangdong Yitong New Energy Technology Co., Ltd | Guangdong Yitong New Energy Technology Co., Ltd.
8. | Guangzhou BorCart Electric Vehicle Co., Ltd | Guangzhou Langqing Electric Car Co., Ltd.
9. | Guangzhou Langqing Electric Car Co., Ltd | Guangzhou Langqing Electric Car Co., Ltd.
10. | Guangzhou Rariro Vehicle Co., Ltd | Guangzhou Rariro Vehicle Co., Ltd.
11. | Guangzhou Sachs Bikes Technology Co., Ltd | LuckyRam Technology Co., Ltd.
12. | Haike EV Co., Ltd | Shandong Haike Vehicle Technology Co., Ltd.
13. | Jiangsu FMX Electric Vehicle Co., Ltd | Jiangsu FMX Electric Vehicle Co., Ltd.
14. | Jiaxing Learoad Special Vehicle Co., Ltd | Jiaxing Learoad Special Vehicle Co., Ltd.
15. | Kangdi Electric Vehicle (Hainan) Co., Ltd | Kangdi Electric Vehicle (Hainan) Co., Ltd.
16. | Qingdao Beemotor New Energy Vehicle Co., Ltd | Shandong Haike Vehicle Technology Co., Ltd.
17. | Qingdao Beemotor New Energy Vehicle Co., Ltd | Dezhou Fuqing Vehicle Industry Co., Ltd.
18. | Shandong Qiaoke New Energy Auto Industry Co., Ltd | Shandong Qiaoke New Energy Auto Industry Co., Ltd.
19. | Shandong Yongli New Energy Vehicle Industry Co., Ltd | Dachi Intelligent Automobile (Rizhao) Co., Ltd.
20. | Shanghai Dachi Auto Power Co., Ltd | Dachi Intelligent Automobile (Rizhao) Co., Ltd.
21. | Shanghai Helios New Energy Technology Co., Ltd | Wuxi Yaxi Electric Vehicle Sales Co., Ltd.
22. | Shanghai Sirius International Trading Co., Ltd | Shanghai Sirius International Trading Co., Ltd.
23. | Shanghai Yixing Power Technology Co., Ltd | Shanghai Yixing Power Technology Co., Ltd.
24. | Shenzhen Aoxiang Industrial Development Co., Ltd | Shenzhen Aoxiang Industrial Development Co., Ltd.
25. | Shenzhen Lento New Energy Electric Vehicle Co., Ltd | Guangdong Lantu Electric Vehicle Co., Ltd.
26. | Suzhou Alwayz Electric Vehicle Manufacturing Co., Ltd | Suzhou Alwayz Electric Vehicle Manufacturing Co., Ltd.
27. | Suzhou Eagle Electric Vehicle Manufacturing Co., Ltd | Suzhou Eagle Electric Vehicle Manufacturing Co., Ltd.
28. | Suzhou Lexsong Electromechanical Equipment Co., Ltd | Wuxi Yaxi Electric Vehicle Co., Ltd.
29. | Suzhou Lexsong Electromechanical Equipment Co., Ltd | Jiangsu Feimaxiang Technology Co., Ltd.
30. | Suzhou Wintao Intelligent Technology Co., Ltd | Suzhou Wintao Intelligent Technology Co., Ltd.
31. | Taiyuan Steel Engineering Corp., Ltd | Wuxi Yaxi Electric Vehicle Sales Co., Ltd.
32. | Taizhou Yoki Carts Co., Ltd | Taizhou Yoki Carts Co., Ltd.
33. | Top New Energy Technology (Dongguan) Co., Ltd | Guangdong Yitong New Energy Technology Co., Ltd.
34. | Wuxi Hio Special Vehicle Co., Ltd | Wuxi Hio Special Vehicle Co., Ltd.
35. | Wuxi Yaxi Electric Vehicle Sales Co., Ltd | Wuxi Yaxi Electric Vehicle Co., Ltd.
36. | Xingtel Xiamen Group Co., Ltd | Xingtel Xiamen Group Co., Ltd.
37. | Yangzhou Whanlong Electric Vehicle Co., Ltd | Yangzhou Whanlong Electric Vehicle Co., Ltd.
38. | Zhejiang Taotao Vehicles Co., Ltd | Zhejiang Taotao Vehicles Co., Ltd.

[FR Doc. 2025-15244 Filed 8-11-25; 8:45 am]

BILLING CODE 3510-DS-P